DEPARTMENT OF COMMERCE

National Oceanic and Atmospheric Administration

Fisheries of the South Atlantic and Gulf of Mexico; South Atlantic Fishery Management Council; Public Meetings

AGENCY: National Marine Fisheries Service (NMFS), National Oceanic and Atmospheric Administration (NOAA), Commerce.

ACTION: Notice of a public meeting and workshop.

SUMMARY: The South Atlantic Fishery Management Council (SAFMC) will hold a meeting of its Scientific and Statistical Committee (SSC) to review and discuss Amendment 9 to the Shrimp Fishery Management Plan (FMP), and a workshop of the SSC to consider modifications to the Acceptable Biological Catch (ABC) control rule. The meeting and workshop will be held in North Charleston, SC. See SUPPLEMENTARY INFORMATION.

DATES: The meeting and workshop will be held August 1-3, 2012. See SUPPLEMENTARY INFORMATION.

ADDRESSES: The meeting and workshop will be held at the Crowne Plaza, 4831 Tanger Outlet Boulevard, North Charleston, SC 29418; telephone: (843) 744-4422.

FOR FURTHER INFORMATION CONTACT: Kim Iverson, Public Information Officer, 4055 Faber Place Drive, Suite 201, North Charleston, SC 29405; telephone: (843) 571-4366; email: Kim.Iverson@safmc.net.

SUPPLEMENTARY INFORMATION: Under the Magnuson-Stevens Reauthorized Act, the SSC is the body responsible for reviewing the Council's scientific materials. During the SSC meeting, the SSC will discuss Amendment 9 to the Shrimp FMP for the South Atlantic Region. The amendment will modify the process for a state to request a concurrent closure of the penaeid shrimp fisheries in the adjacent federal waters during severe winter weather, and revise the overfished status determination criteria for the pink shrimp stock.

During the SSC workshop, the committee will discuss the ABC control rule, with emphasis on methods for deriving ABC for stocks that have reliable catch data only. The SSC will review catch and biological data for unassessed stocks and recommend modifications to the ABC control rule to improve the use of such information when providing ABC recommendations. The SSC will not make ABC recommendations during the workshop.

SSC Meeting Schedule:

August 1, 2012, 1 p.m.-2:45 p.m.

SSC Workshop Schedule:

August 1, 2012, 3 p.m.-6 p.m.

August 2, 2012, 9 a.m.-6 p.m.

August 3, 2012, 9 a.m.-12 p.m.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 3 business days prior to the meeting.

Dated: June 25, 2012.
Tracey L. Thompson,
Acting Director, Office of Sustainable Fisheries, National Marine Fisheries Service.

[FR Doc. 2012-15813 Filed 6-27-12; 8:45 am]

BILLING CODE 3510-22-P